DEPARTMENT OF JUSTICE

Notice of Lodging of Amended Consent Decree; Under the Comprehensive Environmental Response, Compensation, and Liability Act of 1980 (“CERCLA”)

Consistent with Section 122(d) of the Comprehensive Environmental Response, Compensation, and Liability Act of 1980, as amended (“CERCLA”), 42 U.S.C. 9622(d), and 28 CFR 50.7, notice is hereby given that on October 7, 2008, the United States lodged an Amended Consent in United States of America v. Lockheed Martin Corporation, et al., Civil No. 4:02-cv-146 (USDC W.D. Ky.) for the Green River Landfill Superfund Site, located in Maceo, Daviess County, Kentucky (the “Site”). This Court originally approved a Consent Decree in this matter on September 27, 2002. Since the time the original Consent Decree was approved by the Court, the “Settling Defendants” as defined therein, and the United States Environmental Protection Agency (“EPA”) have been unable to implement the institutional controls required at the Site by Section IX of the Consent Decree. Under the proposed Amended Consent Decree, one “Settling Defendant,” Browning-Ferris Industries of Kentucky, Inc. (“BFIKY”) has or will acquire the property needed to institute the necessary institutional controls and, after entry of the Amended Consent Decree, will transfer such property to de maximus inc., defined in the proposed Amended Consent Decree as the “Owner Settling Defendant.” In addition, BFIKY will donate another parcel to Daviess County, which desires to keep it as open space. These property transfers will permit the remaining defendants to institute the required institutional controls and the open space will be an important buffer around the Site.

Under the proposed Amended Consent Decree, in exchange for the property transfers referenced above, BFIKY will have no further obligations under the Amended Consent Decree and will receive from the United States a covenant not to sue or to take administrative action pursuant to Sections 106 or 107 of Comprehensive Environmental Response, Compensation, and Liability Act of 1980 (“CERCLA”), 42 U.S.C. 9606 and 9607 as amended, and Section 7003 of the Resource Conservation and Recovery Act (“RCRA”), 42 U.S.C. 6973, for the United States' past and future costs at the Site. The remaining Settling Defendants will receive from the United States a covenant not to sue or to take administrative action pursuant to Sections 106 and 107 of CERCLA, 42 U.S.C. 9606 and 9607 as amended, and Section 7003 of RCRA, in exchange for implementing the remedy and required institutional controls at the Site and paying EPA's remaining costs under the terms of the proposed Amended Consent Decree.

The Department of Justice will receive for a period of thirty (30) days from the date of this publication comments relating to the Consent Decree Amendments. Comments should be addressed to the Assistant Attorney General, Environment and Natural Resources Division, and either e-mailed to pubcomment-ees.enrd@usdoj.gov or mailed to P.O. Box 7611, U.S. Department of Justice, Washington, DC 20044-7611, and should refer to United States of America v. Lockheed Martin Corporation, et al., Civil No. 4:02-cv-146 (USDC W.D. Ky.) (DOJ Ref. No. 90-11-2-1098).

The Amended Consent Decree may be examined at U.S. EPA Region 4, 61 Forsyth Street, Atlanta, GA 30303 (contact Kevin Beswick, Esq. (404) 562-9580). During the public comment period, the Amended Consent Decree may also be examined on the following Department of Justice Web site, http://www.usdoj.gov/enrd/Consent_Decrees.html. A copy of the Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States of America v. Lockheed Martin Corporation, et al., Civil No. 4:02-cv-146 (USDC W.D. Ky.) (DOJ Ref. No. 90-11-2-1098), and enclose a check in the amount of $29.00 (25 cents per page reproduction cost) payable to the U.S. Treasury or, if by e-mail or fax, forward a check in that amount to the Consent Decree Library at the stated address.

Henry S. Friedman,
Assistant Section Chief, Environmental Enforcement Section, Environment and Natural Resources Division.

[FR Doc. E8-24711 Filed 10-16-08; 8:45 am]

BILLING CODE 4410-15-P